DEPARTMENT OF JUSTICE

Criminal Division; Agency Information Collection Activities: Proposed Collection; Comment Request

ACTION: Notice of Information Collection Under Review: Extension of a Currently Approved Collection: Foreign Agents Registration Act Form (Supplemental Registration Statement) as required by Rule 200(b) of the Act.

The Department of Justice, Criminal Division, has submitted the following information collection request to the Office of Management and Budget for review and clearance in accordance with the Paperwork Reduction Act of 1995. This proposed information collection is published to obtain comments from the public and affected agencies. Comments are encouraged and will be accepted until January 2, 2001.

Request written comments and suggestions from the public and affected agencies concerning the proposed collection of information. Your comments should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

If you have additional comments, suggestions, or additional information, especially regarding the estimated public burden and associated response time, please write to Registration Unit, Internal Security Section, Department of Justice, P.O. Box 27800, Washington, DC 20038. If you need a copy of the collection instrument with instructions, or have additional information, please contact the Registration Unit at 202-514-1216.

Overview of This Information Collection

(1) Type of information collection: Extension of currently approved information collection.

(2) The title of the Form/Collection: Foreign Agents Registration Act Form (Supplemental Registration Statement) as required by Rule 200(b) of the Act.

(3) The agency form number and the applicable component of the Department sponsoring the collection: Form CRM-154. Criminal Division, U.S. Department of Justice.

(4) Affected public who will be asked to respond, as well as a brief abstract: Primary: Business or other for-profit, Not-for-profit institutions, and individuals or households. Form contains supplemental registration and information used in registering foreign agents under 22 U.S.C. 611, et seq.

(5) An estimate of the total number of responses and the amount of time estimated for an average response: 517 respondents at 1.375 hours per response (2 responses annually).

(6) As estimate of the total public burden (in hours) associated with the collection: 1,421.75 annual burden hours.

If additional information is required contact: Mr. Robert B. Briggs, Clearance Officer, United States Department of Justice, Information Management and Security Staff, Justice Management Division, Suite 1220, 1331 Pennsylvania Avenue, NW., National Place Building, Washington, DC 20530.

Dated: November 27, 2000.
Robert B. Briggs,
Department Clearance Officer; Department of Justice.

[FR Doc. 00-30572 Filed 11-30-00; 8:45 am]

BILLING CODE 4410-14-M